DEPARTMENT OF DEFENSE

Department of The Air Force

2019 Public Interface Control Working Group for the NAVSTAR GPS Public Documents

AGENCY: Department of Defense, Department of the Air Force, Global Positioning System Directorate (GPSD).

ACTION: Meeting notice.

SUMMARY: This notice informs the public that the Global Positioning Systems (GPS) Directorate will host the 2019 Public Interface Control Working Group and Open Public Forum on September 25, 2019 for the following NAVSTAR GPS public documents: IS-GPS-200 (Navigation User Interfaces), IS-GPS-705 (User Segment L5 Interfaces), IS-GPS-800 (User Segment L1C Interface), and ICD-GPS-870 (NAVSTAR GPS Control Segment to User Support Community Interfaces). Additional logistical details can be found below.

DATES: 0830-1600 PST, Wednesday, 25 September 2019.

ADDRESSES: SAIC, 100 N Sepulveda Blvd., El Segundo, CA 90245, The Great Room; Dial In: 310-653-2663 Meeting ID: 20190925 Password: 123456.

SUPPLEMENTARY INFORMATION: The purpose of this meeting is to update the public on GPS public document revisions and collect issues/comments for analysis and possible integration into future GPS public document revisions. The 2019 Public Interface Control Working Group and Open Forum are open to the general public. For those who would like to attend and participate, we request that you register no later than 18 September 2019. Please send the registration information to SMCGPER@us.af.mil, providing your name, organization, telephone number, email address, and country of citizenship.

Comments will be collected, catalogued, and discussed as potential inclusions to the version following the current release. If accepted, these changes will be processed through the formal directorate change process for IS-GPS-200, IS-GPS-705, IS-GPS-800, and ICD-GPS-870. All comments must be submitted in a Comments Resolution Matrix. This form along with proposed document revisions of the documents and the official meeting notice are posted at: https://www.gps.gov/technical/icwg/meetings/2019/09/.

Please submit comments to the SMC/GPS Requirements (SMC/GPER) mailbox at SMCGPER@us.af.mil by September 6, 2019. Special topics may also be considered for the Public Open Forum. If you wish to present a special topic, please submit any materials to SMC/GPER no later than August 21, 2019.

FOR FURTHER INFORMATION CONTACT: Please contact Lieutenant Benjamin Ratner at 310-653-2236 or Mr. Daniel Godwin at 310-653-3640.

Carlinda N. Lotson,
Acting Federal Register Liaison Officer.

[FR Doc. 2019-13177 Filed 6-20-19; 8:45 am]

BILLING CODE 5001-10-P